DEPARTMENT OF HEALTH AND HUMAN SERVICES

Centers for Medicare and Medicaid Services

[Document Identifier: CMS-565, CMS-9044, CMS-P-0015A, CMS-1491, CMS-R-13, CMS-R-246, CMS-R-204, CMS-304 and 304a]

Agency Information Collection Activities: Proposed Collection; Comment Request

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Qualification Statement for Federal Employees and Supporting Regulations in 42 CFR 406.15; Form No.: CMS-565 (OMB# 0938-0501); Use: The CMS-565 is completed by individuals filing for hospital insurance ([HI] Part A) benefits based upon their federal employment. This information is needed to determine if SSA/CMS can use (deem) federal employment prior to 1983 to provide quarters of coverage so the individual can qualify for free hospital insurance.; Frequency: Other: One-time-only; Affected Public: Individuals or Households, Federal Government, State, Local, or Tribal Government; Number of Respondents: 4,300; Total Annual Responses: 4,300; Total Annual Hours: 717.

2. Type of Information Collection Request: Extension of a currently approved collection; Title of Information Collection: Provider Reimbursement Manual, Part 1—Chapter 27, Sections 2721, 2722 and 2725, Request for Exception to End Stage Renal Disease Composite Rates and Supporting Regulations in 42 CFR 413.170 and 413.184; Form No.: CMS-9044 (OMB# 0938-0296); Use: This information collection describes the information End Stage Renal Disease facilities must submit in justifying an exception request to their composite rate for outpatient dialysis services; Frequency: On occasion; Affected Public: Business or other for-profit, Not-for-profit institutions, and Federal Government; Number of Respondents: 125; Total Annual Responses: 125; Total Annual Hours: 6,000.

3. Type of Information Collection Request: Extension of a currently approved collection; Title of Information Collection: Medicare Current Beneficiary Survey (MCBS): Rounds 38-46; Form No.: CMS-P-0015A (OMB# 0938-0568); Use: The MCBS is a continuous, multipurpose survey of a nationally representative sample of aged and disabled persons enrolled in Medicare. The survey provides a comprehensive source of information on beneficiary characteristics, needs, utilization, and satisfaction with Medicare-related activities; Frequency: Other: 3 times a year; Affected Public: Individuals or Households, Business or other for-profit, and Not-for-profit institutions; Number of Respondents: 16,500; Total Annual Responses: 49,500; Total Annual Hours: 50,325.

4. Type of Information Collection Request: Extension of a currently approved collection; Title of Information Collection: Request for Medicare Payment—Ambulance and Supporting Regulations in 42 CFR Sections 410.1, 410.40, 424.124, 414.601, 414.605, 414.610, 414.611, 414.615, 414.620, and 414.625; Form No.: CMS-1491 (OMB# 0938-0042); Use: This paper form is completed on an occasion basis by beneficiaries and/or ambulance suppliers. Also, it is submitted to a Medicare carrier to request payment for ambulance services; Frequency: On occasion; Affected Public: Business or other for-profit, Individuals or Households, and Not-for-profit institutions; Number of Respondents: 9,301,183; Total Annual Responses: 9,301,183; Total Annual Hours: 390,493.

5. Type of Information Collection Request: Extension of a currently approved collection; Title of Information Collection: Conditions of Coverage for Organ Procurement Organizations (OPOs) and Supporting Regulations in 42 CFR, Sections 486.304, 486.306, 486.307, 486.310, 486.316, 486.318, and 486.325; Form No.: CMS-R-13 (OMB# 0938-0688); Use: Organ Procurement Organizations are required to submit accurate data to CMS concerning population and information on donors and organs on an annual basis in order to assure maximum effectiveness in the procurement and distribution of organs; Frequency: Annually; Affected Public: Not-for-profit institutions; Number of Respondents: 59; Total Annual Responses: 59; Total Annual Hours: 59,000.

6. Type of Information Collection Request: Extension of a currently approved collection; Title of Information Collection: Medicare Consumer Assessment of Health Plan Survey—Medicare + Choice (CAHPS-M+C); Form No.: CMS-R-246(OMB# 0938-0732); Use: Under the Balanced Budget Act of 1997, CMS is required to provide general and plan comparative information to beneficiaries that will help them make more informed health plan choices. A CAHPS fee-for-service survey is needed to provide information comparable to those data collected from the CAHPS managed care survey; Frequency: Annually; Affected Public: Individuals or Households; Number of Respondents: 168,000; Total Annual Responses: 168,000; Total Annual Hours: 55,450.

7. Type of Information Collection Request: Revision of a currently approved collection; Title of Information Collection: Data Collection for the Second Generation Social Health Maintenance Organization Demonstration; Form No.: CMS-R-204 (OMB# 0938-0709; Use: The Centers for Medicare and Medicaid Services will continue to use the data collected under this effort to support the operational needs of the congressionally mandated and administratively extended Second Generation of the Social Health Maintenance Organization Demonstration.; Frequency: Annually; Affected Public: Individuals or Households; Number of Respondents: 15,000; Total Annual Responses: 15,000; Total Annual Hours: 4,950.

8. Type of Information Collection Request: Extension of a currently approved collection; Title of Information Collection: Medicaid Drug Rebate; Form No.: CMS-304 and 304a (0938-0676); Use: Section 1927 of the Social Security Act requires State Medicaid agencies to report to drug manufacturers and CMS on the drug utilization for their State and the amount of rebate to be paid by the manufacturer; Frequency: Quarterly; Affected Public: State, local, or tribal government; Number of Respondents: 51; Total Annual Responses: 204; Total Annual Hours: 6,125.

To obtain copies of the supporting statement and any related forms for the proposed paperwork collections referenced above, access CMS's Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: October 30, 2003.
Julie Brown,
CMS Reports Clearance Officer, Office of Strategic Operations and Strategic Affairs, Division of Regulations Development and Issuances.

[FR Doc. 03-28090 Filed 11-6-03; 8:45 am]

BILLING CODE 4120-03-P